DEPARTMENT OF THE INTERIOR

Bureau of Land Management

[NV-910-04-0777-30]

Northeastern Great Basin Resource Advisory Council; Notice of 2004 Meetings, Locations, and Times

AGENCY: Bureau of Land Management, Interior.

ACTION: Notice of fiscal year 2004 meetings, locations, and times for the Northeastern Great Basin Resource Advisory Council (Nevada).

SUMMARY: In accordance with the Federal Land Policy and Management Act (FLPMA) and the Federal Advisory Committee Act of 1972 (FACA), the U.S. Department of the Interior, Bureau of Land Management (BLM) Nevada Northeastern Great Basin Resource Advisory Council (RAC), will meet as indicated below. Topics for discussion at each meeting will include, but are not limited to: December 11, 2003 (Battle Mountain, Nevada)—Population Management Unit Tour (Sage Grouse) and Vegetation Guidelines; February 12, 2004 (Eureka, Nevada)—Sage Grouse Update, USDA Forest Service Updates for the Central Nevada Elk Plan, Jarbidge Road Issue, and Interagency Tourism Project; April 15, 2004 (Ely, Nevada)—Ely Resource Management Plan Alternatives and Mining Update; June 10 & 11, 2004 (Elko, Nevada)—Mining Activities and Riparian Management Tour and California Trail Center.

Managers' reports of field office activities will be given at each meeting. The council may raise other topics at any of the four planned meetings.

Dates and Times: The RAC will meet four times in Fiscal Year 2004: on December 11, 2003 at the BLM Battle Mountain Field Office, 50 Bastian Road, Battle Mountain, Nevada; on February 12, 2004 at the Eureka Opera House, 31 South Main, Eureka, Nevada; on April 15, 2004 at the BLM Ely Field Office, 702 North Industrial Way, Ely, Nevada; and on June 10 & 11, 2004 at the BLM Elko Field Office, 3900 East Idaho Street, Elko, Nevada. All meetings are open to the public. Each meeting will last from 9 a.m. to 5 p.m. and will include a general public comment period, where the public may submit oral or written comments to the RAC. Each public comment period will begin at approximately 1 p.m. unless otherwise listed in each specific, final meeting agenda.

Final detailed agendas, with any additions/corrections to agenda topics, locations, field trips and meeting times, will be available on the internet at least 14 days before each meeting, at http://www.nv.blm.gov/rac; hard copies can also be mailed or sent via FAX. Individuals who need special assistance such as sign language interpretation or other reasonable accommodations, or who wish a hard copy of each agenda, should contact Mike Brown, Elko Field Office, 3900 East Idaho Street, Elko, Nevada 89801, telephone (775) 753-0386 no later than 10 days prior to each meeting.

FOR FURTHER INFORMATION CONTACT: Mike Brown, Public Affairs Officer, Elko Field Office, 3900 E. Idaho Street, Elko, NV 89801. Telephone: (775) 753-0386. E-mail: mbrown@nv.blm.gov.

Dated: October 22, 2003.
David Stout,
Associate Field Manager.

[FR Doc. 03-27208 Filed 10-28-03; 8:45 am]

BILLING CODE 4310-HC-P